DEPARTMENT OF HOUSING AND URBAN DEVELOPMENT

[Docket Number: FR-7092-N-37]

Privacy Act of 1974; Matching Program

AGENCY: Office of Administration, HUD.

ACTION: Notice of a new matching program.

SUMMARY: In accordance with the Privacy Act of 1974, as amended, the Department of Housing and Urban Development (HUD) and the Department of Justice (DOJ) are providing notice of a new matching program between DOJ and HUD of data on judgments being collected by DOJ against individuals owing delinquent debts to the Federal Government for inclusion in a computer information system of HUD's, the Credit Alert Verification Reporting System (CAIVRS).

DATES: Comments Due Date: October 17, 2024. The matching program will commence not sooner than 30 days after publication of this notice, provided no comments are received that warrant a change to this notice. The matching program will be conducted for an initial term of 18 months and within 3 months of expiration may be renewed for one additional year if the parties make no change to the matching program and certify that the program has been conducted in compliance with the matching agreement.

ADDRESSES: Interested parties may submit comments as follows:

1. Electronically. You may send your comments electronically to http://www.regulations.gov. Follow the instructions for “Comment or Submission” or “More Search Options” to find the information collection document(s) that are accepting comments.

2. By Regular Mail. You may mail written comments to the following address: Department of Housing and Urban Development, Office of Single-Family Program Development, 451 Seventh Street SW, Room 9266, Washington, DC 20410.

FOR FURTHER INFORMATION CONTACT: Armand Curet, Program Analyst, Home Mortgage Insurance Division, Office of Single-Family Program Development Department of Housing and Urban Development, 451 7th Street SW, Washington DC 20410, telephone (202) 402-4816, email armand.r.curet@hud.gov; telephone HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: This notice supersedes a similar notice published in the Federal Register on July 5, 2016, at 81 FR 43629. The Computer Matching program seeks to set forth the terms and conditions governing disclosures of records, information, or data (collectively referred to herein as “data”) made by DOJ to HUD. This data is obtained by DOJ and pertains to delinquent debt that individuals owe to DOJ. The purpose of its transmittal is to update the Credit Alert Verification Reporting System (CAIVRS), which is a computer information system maintained by HUD. The data match will allow for the prescreening of applicants for Federal direct loans or federally guaranteed loans, for the purpose of determining the applicant's credit worthiness, by ascertaining whether the applicant is delinquent or in default on a loan owed directly to or guaranteed by the Federal Government. The terms and conditions of this Agreement ensure that DOJ makes such disclosures of data, and that HUD uses such disclosed data, in accordance with the requirements of the Privacy Act of 1974, as amended by the Computer Matching and Privacy Protection Act (CMPPA) of 1988, 5 U.S.C. 552a.

Participating Agencies

HUD is the recipient agency, and DOJ is the source agency.

Authority for Conducting the Matching Program

• The Privacy Act of 1974 (5 U.S.C. 552a), as amended by the Computer Matching and Privacy Protection Act of 1988 (Pub. L. 100-503) and the Computer Matching and Privacy Protection Amendments of 1990 (Pub. L. 101-508) (Privacy Act);

• The Debt Collection Act of 1982, Public Law 97-365 (5 U.S.C. 5514; 31 U.S.C. 3701 et. seq.), as amended;

• The Debt Collection Improvement Act of 1996, Public Law 104-134 (5 U.S.C. 5514; 31 U.S.C. 3701 et. seq.);

• The Deficit Reduction Act of 1984, Section 2653 of Public Law 98-369 (26 U.S.C. 6402; 31 U.S.C. 3720a; and 3721);

• The Federal Credit Reform Act of 1990 (2 U.S.C. 661 et. seq.), as amended;

• The Federal Debt Collection Procedures Act of 1990, Public Law 101-647 (28 U.S.C. 3001 et. seq.);

• The Chief Financial Officers Act of 1990, Public Law 101-576 (31 U.S.C. 901 et. seq.), as amended;

• The Cash Management Improvement Act of 1990 (CMIA), Public Law 101-453, as amended by the Cash Management Improvement Act of 1992, Public Law 102-589; The Cash Management Improvement Act Amendments of 1992, Public Law 102-589;

• Executive Order 8248, “Establishing the divisions of the Executive Office of the President and defining their functions and duties,” Sept. 8, 1939;

• The Federal Information Security Management Act of 2002 (FISMA) (44 U.S.C. 3541, et seq.), as amended, and related National Institute of Standards and Technology (NIST) guidelines, which provide the requirements that the Federal Government must follow with regard to use, treatment, and safeguarding of data.

• Pre-existing common law authority to charge interest on debts and to offset payments to collect debts administratively (31 U.S.C. 3701,3711-3720E, 3721); and 24 CFR 17.60 through 17.170.

• The Office of Management and Budget (OMB) Final Guidance Interpreting the Provisions of Public Law 100-503, the Computer Matching and Privacy Protection Act of 1988, 54 FR 25818 (June 19, 1989).

• DOJ Order 0904: Cybersecurity Program.

Purpose(s)

This agreement sets forth the respective responsibilities of HUD and DOJ in effecting the transfer of DOJ post judgment debtor data to CAIVRS. The CAIVRS debtor file contains the Social Security numbers (SSNs) of HUD's delinquent debtors and defaulters, and the delinquent and defaulted debtor records of other federal agencies including the identification of the type of delinquent or defaulted loan. The objective of CAIVRS is to give program agencies and their authorized financial institutions access to a system that allows them to prescreen applicants for loans made or guaranteed by the Federal Government to ascertain if the applicant is delinquent in paying a debt owed to or insured by the Federal Government.

Categories of Individuals

The categories of individuals whose information is involved in the matching program are delinquent federal debtors.

Categories of Records

The categories of records used in the matching program are the categories of records used in the matching program are debtor's SSN, Agency, Program Code, Case number and Contact information.

System(s) of Records

HUD and DOJ SORNs used for purpose of the subject data exchanges include:

• Debt Collection Enforcement System, JUSTICE/DOJ-016. The notice for this system of records, including a routine use permitting this disclosure, was published in the Federal Register on March 25, 2017, (82 FR 24151, 154). The DOJ debtor files contain information on individuals or corporations with unsatisfied judgments.

• Credit Alert Verification System, HUD/HOU-04. The notice for this system of records, including a routine use permitting this disclosure, was published in the Federal Register on August 28, 2023 (88 FR 58595). CAIVRS is as a shared database of defaulted Federal debtors and enables processors of applications for Federal credit benefit to identify individuals who are in default or have had claims paid on direct or guaranteed Federal loans or are delinquent or other debts owed to Federal agencies.

• Financial Data Mart (FDM), A75R. The notice for this system of records, including a routine use permitting this disclosure, was published in the Federal Register on August 17, 2022 (87 FR 50640). FDM is a warehouse of data extracted from various HUD systems and is supported by several query tools for improved financial and program data reporting.

Bradley S. Jewitt,
Senior Agency Official for Privacy, Office of Administration.

[FR Doc. 2024-21113 Filed 9-16-24; 8:45 am]

BILLING CODE P